DEPARTMENT OF THE INTERIOR

Bureau of Land Management

[BLM_WY_FRN_MO4500180980]

Notice of Availability of the Proposed Resource Management Plan and Final Environmental Impact Statement for the Rock Springs Field Office, Wyoming

AGENCY: Bureau of Land Management.

ACTION: Notice of availability.

SUMMARY: In compliance with the National Environmental Policy Act of 1969, as amended (NEPA), and the Federal Land Policy and Management Act of 1976, as amended (FLPMA), the Bureau of Land Management (BLM) has prepared a Proposed Resource Management Plan (RMP) and Final Environmental Impact Statement (EIS) for the Rock Springs Field Office and by this notice is announcing the start of a 30-day protest period of the Proposed RMP.

DATES: This notice announces a 30-day protest period to the BLM on the Proposed RMP beginning with the date of the Environmental Protection Agency's (EPA) publication of its Notice of Availability (NOA) of the Proposed RMP/Final EIS in the Federal Register. The EPA usually publishes its NOAs on Fridays. Protests must be postmarked or electronically submitted on the BLM's ePlanning site during the 30-day protest period.

ADDRESSES: The Proposed RMP and Final EIS is available on the BLM ePlanning project website at https://eplanning.blm.gov/eplanning-ui/project/13853/510. Documents pertinent to this proposal may be examined online at https://eplanning.blm.gov/eplanning-ui/project/13853/510 and at the Rock Springs Field Office.

Instructions for filing a protest with the BLM for the Rock Springs Field Office RMP Revision can be found at: https://www.blm.gov/programs/planning-and-nepa/public-participation/filing-a-plan-protest and at 43 CFR 1610.5-2.

FOR FURTHER INFORMATION CONTACT: Kimberlee Foster, Field Manager, telephone 307-352-0201; address 280 HWY 191 N, Rock Springs, WY 82901; email BLM_WY_RockSpringsRMP@blm.gov. Individuals in the United States who are deaf, deafblind, hard of hearing, or have a speech disability may dial 711 (TTY, TDD, or TeleBraille) to access telecommunications relay services for contacting Ms. Foster. Individuals outside the United States should use the relay services offered within their country to make international calls to the point-of-contact in the United States.

SUPPLEMENTARY INFORMATION: The planning area is located in portions of Lincoln, Sweetwater, Uinta, Sublette, and Fremont counties in southwestern Wyoming and encompasses approximately 3.6 million acres of public land.

Resources on lands administered by the BLM within the planning area are currently managed under the Green River RMP (1997) and Jack Morrow Hills Coordinated Activity Plan (2006), as amended. The Green River RMP encompasses multiple Areas of Critical Environmental Concern, Special Management Areas, and Wilderness Study Areas.

Proposed RMP

This Final EIS documents the comprehensive analysis of alternatives for the planning and management of public lands and resources administered by the Rock Springs Field Office. The Field Office administers various programs, including mineral exploration and development, renewable energy, wildlife habitat, outdoor recreation, wild horses, livestock grazing, and historic trails. The Final EIS provides analysis of potential management direction for important resource values and resource uses within the planning area and allocates the use of public lands for multiple uses. The Final EIS also provides management direction for the protection of certain resources while allowing for leasing and development of mineral resources, livestock grazing, and other activities at appropriate levels.

The Proposed RMP was developed in response to public comment on the Draft EIS (published in August 2023) and is a mix of the other four alternatives analyzed. The Proposed RMP alternative provides for conservation of resource values with appropriate constraints on other resource uses, while addressing public concerns regarding flexibility for development, especially in areas most likely to yield energy and mineral resources.

The Proposed RMP provides for the improvement and protection of habitat for wildlife and sensitive plant and animal species, improvement of riparian areas, and implementation of management actions that improve water quality and enhance protection of cultural resources, as well as ensuring opportunities for recreation and responsible energy development.

Protest of the Proposed RMP

The BLM planning regulations state that any person who participated in the preparation of the RMP and has an interest that will or might be adversely affected by approval of the Proposed RMP may protest its approval to the BLM Director. Protest of the Proposed RMP constitutes the final opportunity for administrative review of the proposed land use planning decisions prior to the BLM adopting an approved RMP. Instructions for filing a protest regarding the Proposed RMP with the BLM Director may be found online at https://www.blm.gov/programs/planning-and-nepa/public-participation/filing-a-plan-protest and at 43 CFR 1610.5-2. All protests must be in writing and mailed to the appropriate address, as set forth in the ADDRESSES section earlier or submitted electronically through the BLM ePlanning project website as described previously. Protests submitted electronically by any means other than the ePlanning project website or by fax will be invalid unless a protest is also submitted as a hard copy. The BLM Director will render a written decision on each protest. The Director's decision shall be the final decision of the Department of the Interior. Responses to valid protest issues will be compiled and documented in a Protest Resolution Report made available following the protest resolution online at: https://www.blm.gov/programs/planning-and-nepa/public-participation/protest-resolution-reports. Upon resolution of protests, the BLM will issue a Record of Decision (ROD) and Approved RMP.

(Authority: 40 CFR 1506.6, 40 CFR 1506.10, 43 CFR 1610.2, 43 CFR 1610.5)

Andrew Archuleta,
State Director.

[FR Doc. 2024-18912 Filed 8-22-24; 8:45 am]

BILLING CODE 4310-22-P